DEPARTMENT OF COMMERCE

Census Bureau

2007 Economic Census General Classification Report

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 13, 2005.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Scott P. Handmaker, Bureau of the Census, Room 1656, Building 3, Washington, DC 20233, and 301-763-7107 or e-mail at Scott.P.Handmaker@census.gov.

SUPPLEMENTARY INFORMATION:

I. Abstract

The Census Bureau is the preeminent collector of timely, relevant and quality data about the people and economy of the United States. Economic data are the Census Bureau's primary program commitment during non-decennial census years. The economic census, conducted under authority of Title 13 U.S.C., is the primary source of facts about the structure and functioning of the Nation's economy and features unique industry and geographic detail. Economic census statistics serve as part of the framework for the national accounts and provide essential information for government, business and the general public.

This data collection, Form NC-99023, is designed to obtain detailed classification information in order to assign a North American Industry Classification System (NAICS) code for establishments that are unclassified and that are partially classified. The NC-99023 will be used to assign a detailed NAICS code to these establishments.

Accurate and reliable industry and geographic codes are critical to the Census Bureau statistical programs. New businesses are assigned industry classification by the Social Security Administration (SSA). However, many of these businesses cannot be assigned detailed industry codes because insufficient information is provided by respondents on Internal Revenue Service (IRS) Form SS-4 and are therefore unclassified.

Establishments that are currently partially classified could be misclassified in the Economic Census without a complete NAICS code. This refile operation will determine a complete and reliable classification in order to ensure the establishment is tabulated in the correct detailed industry for the 2007 Economic Census. For many of these establishments, this is the only chance to obtain this detailed industry classification. If these establishments are not mailed as part of the Economic Census economic data for these cases could be lost.

The failure to collect this classification information will have an adverse effect on the quality and usefulness of economic statistics and severely hamper the Census Bureau's ability to effectively classify establishments under NAICS in the Economic Census and other survey programs.

The Census Bureau is not requesting any economic data in this collection. The collection of this NAICS information will greatly reduce processing costs and ease reporting burden for the 2007 Economic Census data collection.

II. Method of Collection

The Census Bureau will select establishments to receive this survey from the Census Bureau's Business Register. The Census Bureau will mail the NC-99023 to those establishments selected from the mailing list. The NC-99023 will be used to assign a valid NAICS code. The NC-99023 will contain a list of codes and descriptions. Respondents are to select the activity which best describes their business by checking the box next to the activity listed or to describe their principal business activity if no box can be checked.

III. Data

OMB Number: Not Available.

Form Number: NC-99023.

Type of Review: Regular Review.

Affected Public: Businesses or Other For-profit Institutions, Small Businesses or Organizations, Non-profit Institutions, State or local governments.

Estimated Number of Respondents: 200,000.

Estimated Time per Response: 10 minutes.

Estimated Total Annual Burden Hours: 33,333.

Estimated Total Annual Cost: $813,659.

Respondent's Obligation: Mandatory.

Legal Authority: Title 13 U.S.C., Sections, 131, 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 11, 2005.
Madeleine Clayton,
Management Analyst, Office of the Chief Information Officer.

[FR Doc. 05-20595 Filed 10-13-05; 8:45 am]

BILLING CODE 3510-07-P